DEPARTMENT OF THE INTERIOR

Bureau of Land Management

[LLORV00000.L10200000.DF0000. LXSSH1040000.16XL1109AF. HAG 16-0208]

Notice of Public Meetings for the John Day-Snake Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the John Day-Snake Resource Advisory Council (RAC) will meet as indicated below.

DATES: The John Day-Snake RAC will hold a meeting Friday, October 7, 2016, at the River Lodge and Grill in Boardman, Oregon. The meeting will run from 8 a.m. to 5 p.m. A public comment period will be offered from 10:30 a.m. to 11 a.m.

FOR FURTHER INFORMATION CONTACT: Larry Moore, Public Affairs Specialist, BLM Vale District Office, 100 Oregon St., Vale, Oregon 97918, phone (541) 473-6218, or email l2moore@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The John Day-Snake RAC consists of 15 members, chartered and appointed by the Secretary of the Interior. Their diverse perspectives are represented in commodity, conservation, and general interests. They provide advice to BLM and Forest Service resource managers regarding management plans and proposed resource actions on public land in central and eastern Oregon.

Agenda items for the meeting include a discussion on fees associated with the Snake and Deschutes Rivers. Other topics will be posted along with the agenda on the John Day Snake RAC Web site at: http://www.blm.gov/or/rac/jdrac_meetingnotes.php.

All meetings are open to the public. Information to be distributed to the John Day-Snake RAC is requested prior to the start of each meeting. A public comment period will be offered on October 7, 2016, from 10:30 a.m. to 11 a.m. Unless otherwise approved by the John Day-Snake RAC Chairs, the public comment period in each meeting will last no longer than 30 minutes. Each speaker may address the John Day-Snake RAC for a maximum of 5 minutes. A public call-in number for both meeting locations is provided on the John Day-Snake RAC Web site at http://www.blm.gov/or/rac/jdrac.php.

Meeting times and the duration scheduled for public comment periods may be extended or altered when the authorized representative considers it necessary to accommodate business and all who seek to be heard regarding matters before the John Day-Snake RAC.

Don Gonzalez,
Vale District Manager.

[FR Doc. 2016-20819 Filed 9-1-16; 8:45 am]

BILLING CODE 4310-33-P